FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
09-JUN-03 | 20030667 | G | k1 Ventures Limited.
|  | G | Citizens Communications Company.
|  | G | Citizens Communications Company.
| 20030668 | G | Warburg Pincus Private Equity VIII, L.P.
|  | G | Wellman, Inc.
|  | G | Wellman, Inc.
| 20030669 | G | TECO Energy, Inc.
|  | G | Panda Energy International, Inc.
|  | G | TECO-PANDA Generating Company, L.P.
| 20030673 | G | 2000 Riverside Capital Appreciation Fund, L.P.
|  | G | The Dwyer Group, Inc.
|  | G | The Dwyer Group, Inc.
| 20030678 | G | Liberty Media Corporation.
|  | G | UnitedGlobalCom, Inc.
|  | G | UnitedGlobalCom, Inc.
| 20030682 | G | Tenet Healthcare Corporation.
|  | G | Tenet Healthcare Corporation.
|  | G | Tenet MetroWest Healthcare System, Limited Partnership.
11-JUN-03 | 20030676 | G | Ness Technologies, Inc.
|  | G | Apar Holding Corp.
|  | G | Apar Holding Corp.
12-JUN-03 | 20030636 | G | Triton PCS Holdings, Inc.
|  | G | Lafayette Communications Company L.L.C.
|  | G | Lafayette Communications Company L.L.C.
| 20030672 | G | Tomkins plc.
|  | G | The Stackpole Corporation.
|  | G | Stackpole Limited.
| 20030679 | G | Robert Bosch industrietreuhand KG.
|  | G | James V. Zeleski.
|  | G | Vetronix Corporation.
|  | G | Vetronix Sales Corporation.
|  | G | Vetronix Telematics LLC.
|  | G | Vetronix Japan KK.
| 20030686 | G | MDU Resources Group, Inc.
|  | G | Francis M. Young.
|  | G | YB Holdings, Inc.
13-JUN-03 | 20030616 | G | Parthenon Investors II, L.P.
|  | G | Gemini I, LLC.
|  | G | Gemini Industries, Inc.
| 20030660 | G | AmerisourceBergen Corporation.
|  | G | Anderson Packaging, Inc.
|  | G | Anderson Packaging, Inc.
| 20030683 | G | Abbott Laboratories.
|  | G | Spinal Concepts, Inc.
|  | G | Spinal Concepts, Inc.
| 20030689 | G | Morgan Stanley.
|  | G | DigitalGlobe, Inc.
|  | G | DigitalGlobe, Inc.
16-JUN-03 | 20030204 | G | Open Joint Stock Company MMC Norilsk Nickel.
|  | G | Stillwater Mining Company.
|  | G | Stillwater Mining Company.
17-JUN-03 | 20030690 | G | Kenneth I. Nelkin.
|  | G | Marmon Holdings, Inc.
|  | G | Vessel One Corporation.
|  | G | Candy Cap, L.P. II-XX.
|  | G | TU Vessel Leasing Corp.
19-JUN-03 | 20030302 | G | Automatic Data Processing, Inc.
|  | G | ProBusiness Services, Inc.
|  | G | ProBusiness Services, Inc.
20-JUN-03 | 20030693 | G | Fox Paine Capital Fund II International, L.P.
|  | G | Wind River Investment Corporation.
|  | G | Wind River Investment Corporation.
| 20030696 | G | Robert E. Rich, Jr.
|  | G | Dean Foods Company.
|  | G | Dean Foods Company.
| 20030702 | G | Reliance Steel & Aluminum Co.
|  | G | John R. Eiting.
|  | G | Precision Strip, Inc.
| 20030704 | G | Krispy Kreme Doughnuts, Inc.
|  | G | Greater DFW Doughnuts, Inc.
|  | G | Greater DFW Doughnuts, LLP.
|  | G | Hulen St. Doughnut Company, LLP
|  | G | Old Towne Doughnut Company, LLP.
|  | G | Grapevine Doughnut Company, LLP.
|  | G | Arlington Doughnut Company, LLP.
|  | G | Euless Doughnut Company, LLP.
|  | G | Frisco Doughnut Company, LLP.
| 20030712 | G | Cinergy Corp.
|  | G | Suez.
|  | G | Trigen-Cinergy Solutions of St. Paul, LLC.
23-JUN-03 | 20030688 | G | Municipal Mortgage & Equity, LLC.
|  | G | Lend Lease Corporation Limited.
|  | G | Acquisition Investment Corp.
|  | G | Lend Lease MSR Corp.
|  | G | Lend Lease BFRP, Inc.
|  | G | The Boston Financial Group Limited Partnership.
|  | G | BFG Investments, LLC.
| 20030699 | G | Charter Municipal Mortgage Acceptance Company.
|  | G | Stephen M. Ross.
|  | G | RCC Credit Facility, L.L.C.
|  | G | Related Capital Company.
|  | G | Related S.J. SLP, Inc.
|  | G | Related Insured Tax Credit Partners III, Inc.
|  | G | Related Independence Associates Inc.
|  | G | Related Independence Associates III Inc.
|  | G | Related Housing Programs Corporation.
|  | G | RCC Corporate Monitoring Inc.
|  | G | Liberty Credit Assignor Inc.
|  | G | Liberty Credit Assignor III Inc.
|  | G | Liberty Credit Assignor II Inc.
|  | G | Lehigh Tax Credit Partners, Inc.
|  | G | Independence Assignor Inc.
|  | G | Freedom Assignor, Inc.
|  | G | CIP Associates, Inc.
|  | G | Related Charter L.L.C.
|  | G | Related Equities Corporation.
|  | G | Related Credit Properties, Inc.
|  | G | Related Credit Properties, III Inc.
|  | G | Related Credit Properties, II Inc.
|  | G | Related Beta Corporation.
|  | G | Related Aurora Associates, Inc.
|  | G | Related AMI Associates, Inc.
|  | G | Related Advantaged Residential Associates Inc.
|  | G | RCC General Corp.
|  | G | Related Charter LP.
|  | G | RCC Managing Member LLC.
24-JUN-03 | 20030706 | G | Sanmina-SCI Corporation.
|  | G | Newisys, Inc.
|  | G | Newisys, Inc.
26-JUN-03 | 20030677 | G | Amgen Inc.
|  | G | Tularik Inc.
|  | G | Tularik Inc.
30-JUN-03 | 20030274 | G | Waste Management, Inc.
|  | G | Allied Waste Industries, Inc.
|  | G | Giordano Recycling Corp.
|  | G | Automated Modular Systems, Inc.
|  | G | Garafolo Brothers, Inc.
|  | G | Joe Diresi and Sons, Inc.
| 20030685 | G | Fritz Gerber.
|  | G | Maxygen, Inc.
|  | G | Maxygen, Inc.
| 20030718 | G | Degussa AG.
|  | G | Cargill, Incorporated.
|  | G | Midwest Lysine LLC.
| 20030720 | G | United Technologies Corporation.
|  | G | Chubb plc.
|  | G | Chubb plc.
| 20030722 | G | Bank One Corporation.
|  | G | Zurich Financial Services.
|  | G | Federal Kemper Life Assurance Company.
|  | G | Zurich Life Insurance Company of America.
|  | G | Zurich Direct, Inc.
| 20030715 | G | Schneider Electric S.A.
|  | G | EQT Scandinavia Limited.
|  | G | TAC Holding AB.
| 20030717 | G | eBay Inc.
|  | G | EachNet, Inc.
|  | G | EachNet, Inc.
| 20030721 | G | Telefonica, S.A.
|  | G | Terra Networks, S.A.
|  | G | Terra Networks, S.A.
| 20030728 | G | Caliper Technologies Corp.
|  | G | The Berwind Company LLC.
|  | G | ZYAC Holding Corporation.
| 20030735 | G | CGW Southeast Partners IV, L.P.
|  | G | R. Wayne Penrod.
|  | G | Ladd Industries, Inc.
02-JUL-03 | 20030726 | G | Liberty Mutual Holding Company Inc.
|  | G | Prudential Financial, Inc.
|  | G | Prudential Commercial Insurance Company, Inc.
|  | G | Prudential Property and Casualty Insurance Company.
|  | G | Prudential General Insurance Company.
03-JUL-03 | 20030595 | G | The Procter & Gamble Company.
|  | G | Wella AG.
|  | G | Wella AG.
| 20030687 | G | Illinois Tool Works Inc.
|  | G | APC Senior Holdings, Inc.
|  | G | Acme Packaging Corporation.
| 20030703 | G | Patterson-UTI Energy, Inc.
|  | G | TMBR/Sharp Drilling, Inc.
|  | G | TMBR/Sharp Drilling, Inc.
| 20030725 | G | Quad-C Partners VI, L.P.
|  | G | Max Gondon, Jr. and Diana B. Gondon.
|  | G | Walnut Investment Corp. d/b/a Acoustical Material Services.
07-JUL-03 | 20030731 | G | Mercury Interactive Corporation.
|  | G | Kintana, Inc.
|  | G | Kintana, Inc.
| 20030732 | G | Cortec Group Fund III, L.P.
|  | G | Jeffrey R. Haines.
|  | G | Royce Medical Company.
| 20030738 | G | TCV IV, L.P.
|  | G | InPhonic, Inc.
|  | G | InPhonic, Inc.
| 20030743 | G | Kroll Inc.
|  | G | Factual Data Corp.
|  | G | Factual Data Corp.
| 20030744 | G | B&C Privatstifung.
|  | G | Semperit Aktiengesellschaft Holding.
|  | G | Semperit Aktiengesellschaft Holding.
| 20030746 | G | DLJ Merchant Banking Partners III, L.P.
|  | G | Jostens, Inc.
|  | G | Jostens, Inc.
| 20030748 | G | American Securities Partners III, L.P.
|  | G | Kirtland Capital Partners III, L.P.
|  | G | Unifrax Corporation.
10-JUL-03 | 20030576 | G | Konica Corporation.
|  | G | Minolta Co., Ltd.
|  | G | Minolta Co., Ltd.
| 20030713 | G | Warburg Pincus Private Equity VIII, L.P.
|  | G | Odyssey Investment Partners Fund, L.P.
|  | G | Transdigm Holding Company.
| 20030747 | G | Picnal Limited.
|  | G | CORNISH H E's Settlement Trust.
|  | G | LINPAC Group Limited.
11-JUL-03 | 20030729 | G | Omnicare, Inc.
|  | G | Sun Healthcare Group, Inc.
|  | G | Sunscript Pharmacy Corporation.
|  | G | First Class Pharmacy, Inc.
|  | G | HoMed Convalescent Equipment, Inc.
|  | G | Advantage Health Services, Inc.
| 20030772 | G | Willis Stein & Partners III, L.P.
|  | G | TWC Virginia, Inc.
|  | G | Baker & Taylor Corporation.
14-JUL-03 | 20030692 | G | McCarthey Family, LLC.
|  | G | MediaNews Group, Inc.
|  | G | Kearns-Tribune, LLC.
| 20030700 | G | PeopleSoft, Inc.
|  | G | J.D. Edwards & Company.
|  | G | J.D. Edwards & Company.
| 20030741 | G | Reed Elsevier PLC.
|  | G | Applied Discovery, Inc.
|  | G | Applied Discovery, Inc.
| 20030742 | G | Reed Elsevier NV.
|  | G | Applied Discovery, Inc.
|  | G | Applied Discovery, Inc.
| 20030755 | G | Societe Generale S.A.
|  | G | Robert M. Bass.
|  | G | FEP Capital, L.P.
| 20030758 | G | Inergy Propane, LLC.
|  | G | Robert A. Pascal.
|  | G | United Propane, Inc.
| 20030760 | G | Cablevision Systems Corporation.
|  | G | Cablevision Systems Corporation.
|  | G | The Independent Film Channel LLC.
|  | G | American Movie Classics Company.
| 20030763 | G | Marathon Fund Limited Partnership IV.
|  | G | The Elder-Beerman Stores Corp.
|  | G | The Elder-Beerman Stores Corp.
| 20030764 | G | Callaway Golf Company.
|  | G | SHC, Inc.
|  | G | Top-Flite Golf Company.
15-JUL-03 | 200307 | G | Cytec Industries Inc.
|  | G | Avecia (Jersey) Limited.
|  | G | Avecia Inc.
| 20030770 | G | Temasek Holdings (Private) Limited.
|  | G | Global Crossing Ltd.
|  | G | Global Crossing Ltd.
| 20030779 | G | Geac Computer Corporation Limited.
|  | G | Comshare, Incorporated.
|  | G | Comshare, Incorporated.
| 20030788 | G | Gas Natural SDG, S.A.
|  | G | Enron Corp. (Debtor-in-Possession).
|  | G | Enron LNG Power (Atlantic) Ltd.
|  | G | Buenergia Gas & Power, Ltd.
|  | G | El Puerto Rico Operations, Inc.
|  | G | LNG Power III, L.L.C.
|  | G | Enron Development Corp.
16-JUL-03 | 20030740 | G | WebMD Corporation.
|  | G | Advanced Business Fulfillment, Inc.
|  | G | Advanced Business Fulfillment, Inc.
17-JUL-03 | 20030719 | G | Northrop Grumman Corporation.
|  | G | XonTech, Inc.
|  | G | XonTech, Inc.
| 20030769 | G | Dearborn Holdings Corporation.
|  | G | Exelon Corporation.
|  | G | InfraSource Incorporated.
| 20030773 | G | Francisco Partners, L.P.
|  | G | Schlumberger Limited.
|  | G | NPTest, Inc.
| 20030776 | G | J.W. Childs Equity Partners III, L.P.
|  | G | Murray's Inc.
|  | G | Murray's Inc.
| 20030780 | G | Three Cities Fund III, L.P.
|  | G | US Liquids Inc.
|  | G | Romic Environmental Technologies Corporation.
|  | G | Parallel Products of Kentucky, Inc.
|  | G | US Liquids of La., L.P.
|  | G | USL Parallel Products of California.
18-JUL-03 | 20030775 | G | Olympus Growth Fund III, L.P.
|  | G | Orlando Foods, Ltd.
|  | G | Orlando Foods, Ltd.
| 20030783 | G | Wachovia Corporation.
|  | G | CapitalSource Inc.
|  | G | CapitalSource Inc.
| 20030784 | G | Madison Dearborn Capital Partners III, L.P.
|  | G | CapitalSource, Inc.
|  | G | CapitalSource, Inc.
| 20030785 | G | Farallon Capital Institutional Partners, L.P.
|  | G | CapitalSource, Inc.
|  | G | CapitalSource, Inc.
| 20030786 | G | Farallon Capital Partners, L.P.
|  | G | CapitalSource, Inc.
|  | G | CapitalSource, Inc.
| 20030787 | G | Friedman Fleischer & Lowe Capital Partners, L.P.
|  | G | CapitalSource, Inc.
|  | G | CapitalSource, Inc.
| 20030790 | G | Jason M. Fish.
|  | G | CapitalSource, Inc.
|  | G | CapitalSource, Inc.
| 20030791 | G | John K. Delaney.
|  | G | CapitalSource, Inc.
|  | G | CapitalSource, Inc.

FOR FURTHER INFORMATION CONTACT: Sandra M. Peay, Contact Representative or Renee Hallman, Legal Technician. Federal Trade Commission, Premerger Notification Office, Bureau of Competition, Room H-303, Washington, DC 20580, (202) 326-3100.

By direction the Commission.
Donald S. Clark,
Secretary.

[FR Doc. 03-19149 Filed 7-25-03; 8:45 am]

BILLING CODE 6750-01-M